OFFICE OF THE DIRECTOR OF NATIONAL INTELLIGENCE

Notice of Meeting: National Intelligence University Board of Visitors

AGENCY: National Intelligence University (NIU), Office of the Director of National Intelligence (ODNI).

ACTION: Notice of Federal advisory committee meeting of the National Intelligence University Board of Visitors.

SUMMARY: ODNI is publishing this notice to announce that the following Federal Advisory Committee meeting of the NIU Board of Visitors (BoV) will take place. This meeting is closed to the public.

DATES: Tuesday, 24 September, 2024 8:30 a.m. to 5 p.m., Bethesda, MD.

ADDRESSES: National Intelligence University, 4600 Sangamore Road, Bethesda, MD 20816.

FOR FURTHER INFORMATION CONTACT: Ms. Patricia “Patty” Larsen, Designated Federal Officer, (301) 243-2118 (Voice), excom@odni.gov (email). Mailing address is National Intelligence University, Roberdeau Hall, Washington, DC 20511. Website: http://ni-u.edu/wp/about-niu/leadership-2/board-of-visitors/.

SUPPLEMENTARY INFORMATION: This meeting is being held under the provisions of the Federal Advisory Committee Act of 1972 (5 U.S.C. 1001-1014), the Government in the Sunshine Act of 1976 (5 U.S.C. 552b), and 41 CFR 102-3.140 and 102-3.150. The meeting includes the discussion of classified information and classified materials regarding intelligence education issues, internal personnel rules and practices of NIU, and pre-decisional strategic planning matters; and the Director of National Intelligence, or her designee, in consultation with the ODNI Office of General Counsel, has determined the meeting will be closed to the public under the exemptions set forth in 5 U.S.C. 552b(c)(1),552b(c)(2), and 552b(c)(9)(B).

I. Purpose of the Meeting: The Board will discuss and provide written observations and recommendations on matters relating to NIU personnel, budget, facilities, strategic planning, information technology, intelligence programs, and whole of institution assessment data, as well as discuss current classified intelligence education issues.

II. Agenda: Welcome and Call to Order; Opening Remarks; Resources—Budget, Information Technology, Personnel, Whole of Institution Assessment Data, Break for Lunch; AY25 Transition, Strategic Planning.

III. Meeting Accessibility: The public or interested organizations may submit written statements to the NIU BoV about its mission and functions. Written statements may be submitted at any time or in response to the stated agenda of a planned meeting of the NIU BoV.

IV. Written Statements: All written statements shall be submitted to the Designated Federal Officer for the NIU BoV, and this individual will ensure that the written statements are provided to the membership for their consideration.

Dated: August 5, 2024.
Robert A. Newton,
Committee Management Officer and Deputy Chief Operating Officer.

[FR Doc. 2024-18144 Filed 8-13-24; 8:45 am]

BILLING CODE 3910-A79-P-P